DEPARTMENT OF TRANSPORTATION

[Docket No. DOT-OST-2021-0166]

Agency Request for Emergency Approval of an Information Collection

AGENCY: Department of Transportation.

ACTION: Notice and request for comments.

SUMMARY: In compliance with the Paperwork Reduction Act of 1995, the Department of Transportation (DOT) provides notice that it will submit an information collection requests (ICR) to the Office of Management and Budget (OMB) for emergency approval of a proposed information collection. Upon receiving the requested six-month emergency approval by OMB, the Office of the Secretary (OST) will follow the normal PRA procedures to obtain extended approval for this proposed information collection. This collection involves applicants to submit a proposal for discretionary grant funding, under the “National Infrastructure Project Assistance Program, established by the Infrastructure Investment and Jobs Act of 2021, November 15, 2021, “Bipartisan Infrastructure Law”, or “BIL”. OST is requesting emergency approval due to the urgency of making the associated funds available to applicants that meet the eligibility requirements under the law. The continued viability of these funds is critical in supporting the transportation infrastructure needs across the United States. The statutory requirements of the BIL also establish a strict 90-day timeframe from the date of enactment to publish a Notice of Funding Opportunity.

DATES: Comments should be submitted as soon as possible upon publication of this notice in the Federal Register.

ADDRESSES: Comments and questions should be directed to the Office of Information and Regulatory Affairs (OIRA), Attn: OST OMB Desk Officer, 725 17th Street NW, Washington, DC 20503. Comments and questions about the ICR identified below may be transmitted electronically to OIRA at oira_submissions@omb.eop.gov.

FOR FURTHER INFORMATION CONTACT: Information related to this ICR, including applicable supporting documentation may be obtained by contacting John Augustine, Office of Infrastructure Finance and Innovation in the office of the Under Secretary for Transportation Policy (OST-P-40), W84-306, Department of Transportation, 1200 New Jersey Avenue SE, Washington, DC 20590, (202) 366-5437.

SUPPLEMENTARY INFORMATION: The Paperwork Reduction Act of 1995 (44 U.S.C. chapter 35; as amended) and 5 CFR part 1320 require each Federal agency to obtain OMB approval to initiate an information collection activity. DOT is seeking OMB approval for the following DOT information collection activity:

OMB Control Number: 2105-XXXX.

Title: National Infrastructure Project Assistance Program.

Form Numbers: New Collection.

Type of Review: Emergency information collection request.

Expected Number of Respondents: 100.

Frequency: One-time application, to be followed by grant agreement execution, reimbursement of funds, and project closeout.

Estimated Average Burden per Response: 100 (application submission, grant agreement execution, project management, and project evaluation/reporting).

Estimated Total Annual Burden: 10,000.

Abstract: On November 15, 2021 the Infrastructure Investment and Jobs Act of 2021 (Pub. L. 117-58) “Bipartisan Infrastructure Law (BIL)” was enacted. Section 6701 established the National Infrastructure Project Assistance Program, to provide capital investments in surface transportation infrastructure that will have a significant local or regional impact.

Application Stage

In order to be considered to receive a grant, a project sponsor must submit an application to OST containing a project narrative, as detailed in the Notice of Funding Opportunity. The project narrative should include the information necessary for the Department to determine that the project satisfies eligibility requirements as warranted by law.

The Department will receive applications and reports electronically via email and via websites from grant awardees upon approval from OMB. In order to minimize the burden on applicants, OMB approved standard forms are being used to collect information where possible. Such standard forms include the Application for Federal Assistance (SF-424), available online at https://apply07.grants.gov/apply/forms/sample/SF424_2_1-V2.1.pdf, and the post-award Federal Financial Reports form (SF-425), available online at https://apply07.grants.gov/apply/forms/sample/SF425_2_0-V2.0.pdf.

All information submitted as part of or in support of any application shall use publicly available data or data that can be made public. If the application includes information the applicant considers to be a trade secret or confidential commercial or financial information, the applicant should do the following: (1) Note on the front cover that the submission “Contains Confidential Business Information (CBI)”; (2) mark each affected page “CBI”; and (3) highlight or otherwise denote the CBI portions. DOT protects such information from disclosure to the extent allowed under applicable law. In the event DOT receives a Freedom of Information Act (FOIA) request for the information, DOT will follow the procedures described in its FOIA regulations at 49 CFR 7.17. Only information that is ultimately determined to be confidential under that procedure will be exempt from disclosure under FOIA. This grant program is voluntary. No stakeholder is required to participate. However, participating stakeholders will be expected to provide the following information.

The Department will collect the following information:

• Legal name of the applicant (i.e., the legal name of the business entity), as well as any other identities under which the applicant may be doing business.

• Address, telephone, and email contact information for the applicant.

• Name and title of the authorized representative of the applicant (who will attest to the required certifications).

• DOT may also require the identity of external parties involved in preparation of the application, who may be assisting the applicant that is applying for assistance under this program.

• The specific statutory criteria that the applicant meets for eligibility under this program.

○ The statute defines eligible applicants to include States, the District of Columbia; the Commonwealth of Puerto Rico; the Commonwealth of the Northern Mariana Islands; the United States Virgin Islands; American Samoa; and, any other territory or possession of the United States; a unit of local government; a metropolitan planning organization; a unit of local government; a political subdivision of a State; a special purpose district or public authority with a transportation function, including a port authority; a Tribal government or a consortium of Tribal governments; a partnership between Amtrak and 1 or more entities described above; and a group of entities described above.

○ The statute defines eligible projects to include:

(A) A highway or bridge project carried out on: (i) The National Multimodal Freight Network established under section 70103; (ii) the National Highway Freight Network established under section 167 of title 23; or (iii) the National Highway System (as defined in section 101(a) of title 23);

(B) a freight intermodal (including public ports) or freight rail project that provides a public benefit;

(C) a railway-highway grade separation or elimination project;

(D) an intercity passenger rail project;

(E) a public transportation project that is: (i) Eligible for assistance under chapter 53; and (ii) part of a project described in any of subparagraphs (A) through (D); or

(F) a grouping, combination, or program of interrelated, connected, or dependent projects of any of the projects described in subparagraphs (A) through (E); and the eligible project costs of which are: (A) Reasonably anticipated to equal or exceed $500,000,000; or (B) for any project funded by the set-aside under subsection (m)(2): (i) More than $100,000,000; but (ii) less than $500,000,000.

• The specific statutory criteria for the applicant's location:

○ Whether the applicant is located in an urban or rural area, as defined by the statute and outlined in the Notice of Funding Opportunity. This information and supporting documentation will be required to ensure geographical diversity, and a balance between rural and urban communities.

○ Whether the applicant is located in an area of persistent poverty and/or a historically disadvantaged community.

• A narrative description of how the project aligns with the program criteria.

• Criteria include the extent to which the project: Supports achieving a state of good repair; the level of benefits the project is expected to generate; the benefits as compared to the costs; the number of persons or volume of freight supported by the project; national and regional economic benefits; as well as additional considerations, including: Contributions to geographical diversity the including a balance between the needs of urban/rural areas; whether multiple states would benefit from a project; whether, and the degree to which, a project uses: Construction materials/approaches that have: Demonstrated GHG reductions, and a reduced the need for maintenance of other projects; technologies that will allow for future connectivity and automation; whether a project benefits: A historically disadvantaged community or population or an area or persistent poverty; whether a project benefits users of multiple modes, including: Pedestrians, bicyclists, and users of non-vehicular rail and public transportation, including intercity and commuter rail; whether a project improves connectivity between modes of transportation moving persons or goods nationally or regionally.

• A detailed project budget, including the grant request amount, other Federal funds, and non-Federal contributions. DOT requires this information to calculate the cost share requirements outlined in statute. Applicants will be required to provide supporting documentation in sufficient detail to describe the project cost breakdown.

• A plan for the collection and analysis of data to identify: The impacts of the project; and the accuracy of any forecast prepared during the development phase of the project and included in the grant application.

• Other identification numbers, such as their Data Universal Numbering System (DUNS) number, Unique Entity Identifier under 2 CFR part 25, etc. All applicants will be required to have pre-registered with the System for Award Management (SAM) at https://sam.gov/SAM/.

Grant Agreement Stage

The grant agreement is an agreement between DOT and the recipient. In the grant agreement, the recipient must describe the project that DOT agreed to fund, which is typically the project that was described in the application or a reduced-scope version of that project. The grant agreement must also include a detailed breakdown of the project schedule and a budget listing all major activities that will be completed as part of the project.

Project Management Stage

The reporting requirements under this stage are necessary to ensure the proper and timely expenditure of federal funds within the scope of the approved project. The requirements comply with the Common Grant Rule, and are also included in sections of the grant agreement. During the project management stage, the grantee will complete Quarterly Progress and Monitoring Reports to ensure that the project budget and schedule will be maintained to the maximum extent possible, that the project will be completed with the highest degree of quality, and that compliance with Federal regulations will be met. The substantive requirements of the report include: The project's overall status; project significant activities and issues; action items/outstanding issues; project scope overview; project schedule; project cost; an SF-425 Federal Financial Report; and certifications. This reporting requirement will greatly reduce the need for on-site visits by staff.

Project Evaluation Stage

The reporting requirement under this stage is necessary to assess the long-term impact of the project by comparing the baseline data provided in the data collection plan as required in the application to project data collected during the five (5) years after project completion. This electronic spreadsheet report is collected once, at least five (5) years after project completion from grantees to help measure the effectiveness of the grants as a program. Information provided will allow the Government to analyze project performance.

Authority: The Paperwork Reduction Act of 1995; 44 U.S.C. chapter 35, as amended; and 49 CFR 1:48.

Issued in Washington, DC.
John Augustine,
Director, Office of Infrastructure Finance and Innovation, Office of the Secretary.

[FR Doc. 2022-00334 Filed 1-10-22; 8:45 am]

BILLING CODE 4910-9X-P